DEPARTMENT OF TRANSPORTATION

Federal Motor Carrier Safety Administration

Use of Wireless Mobile Data Devices as Transponders for the Commercial Motor Vehicle Information Systems and Networks (CVISN) Electronic Screening Systems

AGENCY: Federal Motor Carrier Safety Administration (FMCSA), DOT.

ACTION: Notice; announcement of policy.

SUMMARY: FMCSA announces that Commercial Mobile Radio Services (CMRS) network devices can be used as transponders for the purposes of CVISN electronic screening truck inspection and weigh station bypass systems. CMRS network devices such as smartphones, tablets, fleet management systems, global positioning system (GPS) navigational units, and onboard telematics devices (referred to collectively as “wireless mobile data devices”) have the capability of transmitting and receiving the same information between the driver and the inspection site as the dedicated short-range communication (DSRC)-enabled transponders operating at the 915 MHz frequency currently used to fulfill the CVISN electronic screening requirement for core compliance. This policy does not affect the applicability or enforcement of FMCSA's regulations prohibiting texting and the use of hand-held wireless mobile phones by commercial motor vehicle (CMV) drivers.

FOR FURTHER INFORMATION CONTACT: For information concerning this notice or this activity, contact Mr. Jose M. Rodriguez, CVISN Technical Program Manager, Technology Division of FMCSA, (202) 366-3517, jose.rodriguez@dot.gov.

SUPPLEMENTARY INFORMATION:

Background

The purpose of the CVISN program is to advance technological capability and promote the deployment of Intelligent Transportation System applications for commercial vehicle operations, including commercial vehicle, commercial driver, and carrier specific information systems and networks. CVISN is divided into core and expanded deployment. Before a State is eligible for expanded deployment funding, it must complete core deployment. In order to complete core deployment, States must install an electronic system to screen transponder-equipped commercial vehicles at a minimum of one fixed or mobile inspection site in the State and replicate this screening at other sites. The objective of electronic screening is to identify enrolled vehicles; to screen vehicles based on safety history, weight, and credential status (e.g., registration, fuel tax payment, operating authority); and to allow enrolled vehicles that meet the State's criteria to bypass inspection sites. By allowing compliant vehicles to bypass weigh stations and inspection sites without stopping, FMCSA and its State partners are able to increase the effectiveness of enforcement efforts by targeting high risk motor carriers. Currently, weigh stations and inspection sites electronically screen DSRC-enabled transponder-equipped CMVs to determine if an inspection is necessary or if the driver should bypass the weigh station or inspection site.

In the past, States have installed only DSRC electronic screening transponder systems to satisfy the CVISN core electronic screening requirement because that was the prevalent technology at the time the CVISN program was authorized. States or private companies providing the DSRC screening services were required to install DSRC infrastructure to participate in the information sharing between roadside activities and the vehicles required to be in compliance with Core CVISN deployment. States may continue to deploy DSRC electronic screening transponder systems operating at the 915 MHz frequency to fulfill the CVISN electronic screening requirement for core compliance.

Use of CMRS To Comply With CVISN

Since the CVISN program began, there has been a significant expansion of CMRS networks in North America. States may now use available CMRS networks to screen trucks equipped with wireless mobile data devices used as transponders. CMRS network devices such as smartphones, tablets, fleet management systems, GPS navigational units, and onboard telematics devices are capable of transmitting and receiving multiple forms of wireless mobile data and thus, are considered transponders for the purposes of the CVISN program.

CMRS transponders use commercially available mobile radio transmission frequencies to access cellular data networks and exchange carrier and vehicle credentials utilizing web-based technologies. Triggered via GPS signaling, CMRS transponders communicate through the internet to electronic screening systems that issue traditional red light/green light responses for in-cab displays mounted on the dashboard. Because CMRS transponders are hardware neutral, drivers can install a variety of cellular-enabled GPS-connected devices (such as smartphones, tablets, fleet management systems, GPS navigational units, and onboard telematics devices) in vehicles.

This policy announcement does not affect the applicability or enforcement of FMCSA's regulations under 49 CFR part 392 prohibiting texting and the use of hand-held wireless mobile phones by commercial motor vehicle (CMV) drivers.

Benefits

Use of wireless mobile data devices as transponders with CMRS provides benefits to FMCSA and key stakeholders including State CMV enforcement agencies, industry, and participating motor carriers:

1. All of the remaining 11 States that have not yet achieved CVISN core deployment status because they have not met the CVISN electronic screening requirement will have another option to achieve CVISN core deployment status. This makes States eligible for the expanded CVISN funding deployment milestone and improves data sharing among States and FMCSA.

2. The electronic screening system enables State enforcement agencies to identify CMV drivers and check their safety status at highway speeds and enables FMCSA and State partners to more efficiently utilize resources to target high risk carriers.

3. The capability to check the safety status of drivers and vehicles at highway speeds will decrease congestion and vehicle emissions at inspection sites. Motor carriers will avoid fuel costs associated with idling at weigh stations and inspection sites.

4. State agencies can add additional electronic screening sites, both fixed and mobile, with no infrastructure-related costs. CMRS-enabled systems give States significant flexibility in activating and de-activating geofences (the virtual perimeter for the real-world geographic area in which truck station bypass systems electronically screen CMVs).

5. For participating motor carriers, available CMRS-based electronic screening systems are technology-platform neutral and could be operated, on wireless mobile data devices, as well as onboard fleet management systems. The use of the system is consistent with FMCSA's prohibition against the use of hand-held mobile phones and texting and complements existing DSRC-based screening systems.

Issued on: July 8, 2013.
Anne S. Ferro,
Administrator.

[FR Doc. 2013-17418 Filed 7-18-13; 8:45 am]

BILLING CODE 4910-EX-P